ENVIRONMENTAL PROTECTION AGENCY

[EPA-HQ-OECA-2012-0660; FRL-9996-88-OMS]

Information Collection Request Submitted to OMB for Review and Approval; Comment Request; NESHAP for Halogenated Solvent Cleaners/Halogenated Hazardous Air Pollutants (Renewal)

AGENCY: Environmental Protection Agency (EPA).

ACTION: Notice.

SUMMARY: The Environmental Protection Agency has submitted an information collection request (ICR), NESHAP for Halogenated Solvent Cleaners/Halogenated Hazardous Air Pollutants (EPA ICR Number 1652.10, OMB Control Number 2060-0273), to the Office of Management and Budget (OMB) for review and approval in accordance with the Paperwork Reduction Act. This is a proposed extension of the ICR, which is currently approved through September 30, 2019. Public comments were previously requested, via the Federal Register, on May 30, 2018 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before August 30, 2019.

ADDRESSES: Submit your comments, referencing Docket ID Number EPA-HQ-OECA-2012-0660, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit: http://www.epa.gov/dockets.

Abstract: The National Emission Standards for Hazardous Air Pollutants (NESHAP) for Halogenated Solvent Cleaners/Halogenated Hazardous Air Pollutants were proposed on November 29, 1993, and promulgated on December 2, 1994. The NESHAP was amended on the following dates: June 5, 1995; December 11, 1998; July 13, 1999; August 19, 1999; and May 3, 2007. These regulations apply to each individual batch vapor, in-line vapor, in-line cold, and batch cold solvent cleaning machine that uses any solvent containing methylene chloride, perchloroethylene, 1,1,1-trichloroethane, trichloroethylene, carbon tetrachloride, chloroform, or any combination of these halogenated HAP solvents, in a total concentration greater than 5 percent by weight, as a cleaning and/or drying agent. New facilities include those that commenced construction or reconstruction on or after December 2, 1994. This information is being collected to assure compliance with 40 CFR part 63, subpart T.

In general, all NESHAP standards require initial notification reports, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP.

Form Numbers: None.

Respondents/affected entities: Halogenated Solvent Cleaners.

Respondent's obligation to respond: Mandatory (40 CFR part 63).

Estimated number of respondents: 931 (total).

Frequency of response: Semiannual.

Total estimated burden: 31,300 hours (per year). Burden is defined at 5 CFR 1320.3(b).

Total estimated cost: $4,230,000 (per year), which includes $660,000 in annualized capital/startup and/or operation & maintenance costs.

Changes in the Estimates: The decrease in burden from the most recently-approved ICR is due to an adjustment. The adjustment decrease in burden is due to more accurate estimates of existing and anticipated new sources. The estimates in this ICR reflect a decrease in the universe of respondents that is the result of changes within the industry to use alternative solvents and solvent machines that do not contain the HAP subject to the NESHAP. These estimates also more accurately reflect the number of respondents identified in EPA's ECHO database. The decrease in the number of respondents also results in a decrease in the operation and maintenance costs. There are no changes to the capital and startup costs.

Courtney Kerwin,
Director, Regulatory Support Division.

[FR Doc. 2019-16225 Filed 7-30-19; 8:45 am]

BILLING CODE 6560-50-P